DEPARTMENT OF HEALTH AND HUMAN SERVICES

Health Resources and Services Administration

Agency Information Collection Activities: Submission to OMB for Review and Approval; Public Comment Request; Ryan White HIV/AIDS Program Client-Level Data Reporting System, OMB No. 0906-xxxx-NEW

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than November 28, 2018.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Client-Level Data Reporting System.

OMB No. 0906-xxxx-NEW.

Abstract: The Ryan White HIV/AIDS Program's (RWHAP) client-level data reporting system, entitled the RWHAP Services Report or the Ryan White Services Report (RSR), is designed to collect information from grant recipients, as well as their subrecipients, funded under Parts A, B, C, and D of the RWHAP statute. The RWHAP, authorized under Title XXVI of the Public Health Service Act, as amended by the Ryan White HIV/AIDS Treatment Extension Act of 2009, is administered by HRSA HIV/AIDS Bureau (HAB). The HRSA RWHAP funds and coordinates with cities, states, and local clinics/community-based organizations to deliver efficient and effective HIV care, treatment, and support to low-income people living with HIV (PLWH).

Need and Proposed Use of the Information: The RWHAP statute requires HRSA to monitor the administration of grant funds, allocation of funding, service utilization, and client demographic and HIV health outcome data (e.g., viral suppression). The RSR collects data on the characteristics of RWHAP-funded recipients, subrecipients, and the patients or clients served. The RSR system consists of two online data forms: the Recipient Report and the Service Provider Report; and the Client Report, which is a data file containing the client-level data elements. Data are submitted annually. The RWHAP statute specifies the importance of recipient accountability and linking performance to budget. The RSR is used to ensure recipient compliance with the statute, including evaluating the effectiveness of programs, monitoring recipient and subrecipient performance, and informing annual reports to Congress. Information collected through the RSR is critical for HRSA, state/local grant recipients, and individual service providers to understand existing HIV-related service delivery systems and the clients served. Information in the RSR is used to assess trends in service utilization and HIV health outcomes for clients served. Data from the RSR is analyzed to identify disparities and gaps within the service delivery systems. The 60-day notice published on November 27, 2017 (Vol. 82, No. 226).

This new ICR is being developed to replace the existing ICR (OMB control number 0915-0323), for which HRSA has collected RSR data since 2009. As more recipients fully fund services using other RWHAP-related funding streams, such as pharmacy rebate dollars, HRSA HAB receives less information on RWHAP eligible clients, which reduces HRSA HAB's ability to measure the investment and impact of all RWHAP-related expenditures at state and local levels. Revisions in this new package will account for the funding decisions made by recipients and will now include reporting of eligible clients who receive HRSA RWHAP allowable services using RWHAP-related funding (e.g., program income and pharmacy rebates) starting with the 2019 RSR, submitted in March 2020. The proposed change may require recipients to collect additional data, either on clients or outcome measures. To decrease burden in collecting these additional data, HRSA HAB proposes a phased approach to allow time for recipients to expand their systems to collect the data. HRSA HAB expects that some recipients already receive this information from subrecipients for monitoring purposes. However, with respect to those subrecipients who are not collecting these data, such subrecipients would be required to collect additional client level information.

In an effort to increase HRSA HAB's ability to understand coverage areas for RWHAP provider sites and the population that provider sites serve, this new ICR will ask recipients to provide zip codes for RWHAP clients receiving outpatient ambulatory health services, in addition to asking them to list the number of unduplicated clients residing in each zip code.

Additional modifications will be made to several variables within the client report to reduce burden, improve data quality, and align data collection efforts with Policy Clarification Notice Ryan White HIV/AIDS Program Services: Eligible Individuals and Allowable Uses of Funds (PCN 16-02). These modifications will include the removal of 14 variables in the Client, Service Provider, and Recipient Reports. HRSA will continue to collect and report the client-level data elements supplied by the existing ICR through 2019. In 2019, HRSA will discontinue use of the existing ICR and will collect and report on the data elements defined in the new ICR. While there will be no overlap in the data collected and reported between the existing and new ICR, HRSA is submitting this new ICR in tandem with the existing ICR to allow recipients the ability to make modifications to their RSR systems between the two reporting periods. This will allow recipients to continue collecting and reporting on both the old and new variables without interruption.

Likely Respondents: RWHAP Part A, Part B, Part C, and Part D recipients and their subrecipients.

Burden Statement: Burden in this context means the time expended by persons to generate, maintain, retain, disclose or provide the information requested. This includes the time needed to (1) review instructions; (2) develop, acquire, install, and utilize technology and systems for the purpose of collecting, validating, and verifying information, processing and maintaining information, and disclosing and providing information; (3) train personnel and respond to a collection of information; (4) search data sources; (5) complete and review the collection of information; and (6) transmit or otherwise disclose the information. The total annual burden hours estimated for this ICR are summarized in the table below.

Total Estimated Annualized Burden—Hours
Type of respondents | Form name | Number of respondents | Number of responses per respondent | Total responses | Average burden per response (in hours) | Total burden hours
RWHAP Parts A, B, C, and D Grant recipients | Recipient Report | 475 | 1 | 475 | 11 | 5,225
| Service Provider Report | 2,079 | 1 | 2,079 | 13 | 27,027
| Client Report | 1,607 | 1 | 1,607 | 113 | 181,591
Total |  | 4,161 |  | 4,161 |  | 213,843

Amy P. McNulty,
Acting Director, Division of the Executive Secretariat.

[FR Doc. 2018-23547 Filed 10-26-18; 8:45 am]

BILLING CODE 4165-15-P